DEPARTMENT OF EDUCATION

34 CFR Part 606

Developing Hispanic-Serving Institutions Program; Delay of Effective Date

AGENCY: Department of Education.

ACTION: Final regulations; delay of effective date.

SUMMARY: In accordance with the memorandum of January 20, 2001, from the Assistant to the President and Chief of Staff, entitled “Regulatory Review Plan,” this regulation temporarily delays the effective date of the regulations entitled Developing Hispanic-Serving Institutions Program published in the Federal Register on January 8, 2001 (66 FR 1262).

EFFECTIVE DATE: The effective date of the regulations amending 34 CFR Part 606 published at 66 FR 1262, January 8, 2001, is delayed 60 days until April 8, 2001.

FOR FURTHER INFORMATION CONTACT: Kenneth C. Depew, Acting Assistant General Counsel for Regulations, Office of the General Counsel, U.S. Department of Education, 400 Maryland Avenue, SW., room 6E227, FB-6, Washington, DC 20202-2241. Telephone: (202) 401-8300.

If you use a telecommunications device for the deaf (TDD), you may call the Federal Information Relay Service (FIRS) at 1-800-877-8339.

Dated: January 24, 2001.
Rod Paige,
Secretary of Education.

[FR Doc. 01-2779 Filed 1-31-01; 8:45 am]

BILLING CODE 4000-01-P